ENVIRONMENTAL PROTECTION AGENCY
40 CFR Part 52
[FL-87-200407; FRL-7616-3]
Approval and Promulgation of Implementation Plans: Florida: Citrus Juice Processing

AGENCY:
Environmental Protection Agency (EPA).

ACTION:
Proposed conditional approval.

SUMMARY:
EPA is proposing to conditionally approve a State Implementation Plan (SIP) revision submitted by the State of Florida (the “State”) on January 30, 2001, with additional material submitted on July 16, 2002 and January 31, 2003. This notice also identifies those changes that must be made to the Florida statute and regulation that underlies the State's program in order for EPA to find the SIP submission approvable. Florida's submittal is for an innovative strategy to regulate air pollutant emissions from citrus juice processing facilities. The program is designed to reduce emissions of smog forming compounds, known as volatile organic compounds (VOC), through the recovery of citrus oils. The proposed SIP revision consists of a new Florida statute and implementing regulations that set emission limits for existing and new equipment at the twenty-six existing citrus juice processing facilities in Florida. EPA is proposing to approve Florida's innovative citrus juice processing program as a SIP revision with the condition that Florida correct the deficiencies identified in this action as Title I Requirements and submit approvable revisions to EPA within 12 months. EPA will address the State's formal request for a Title V program revision as a separate action.

DATES:
Written comments must be received on or before March 1, 2004 at the address given below.

ADDRESSES:

If you submit comments on this proposed action, they must be sent to: Ms. Kelly Fortin at the U. S. Environmental Protection Agency, Region 4 Air Planning Branch, 61 Forsyth Street SW., Atlanta, Georgia 30303-8960. Comments may also be submitted electronically, or through hand delivery/courier. Please follow the detailed instructions described in sections IV.B.1. through 3. of the SUPPLEMENTARY INFORMATION section.

FOR FURTHER INFORMATION CONTACT:

Ms. Kelly Fortin, Air Permitting Section, Air Planning Branch, Air, Pesticides and Toxics Management Division, U.S. Environmental Protection Agency, Region 4, 61 Forsyth Street SW., Atlanta, Georgia 30303-8960. The telephone number is (404) 562-9117. Ms. Fortin can also be reached via electronic mail at: fortin.kelly@epa.gov.

SUPPLEMENTARY INFORMATION:
I. Regulated Entities
The proposed changes to the Florida SIP would apply to the 26 existing citrus juice processing facilities in the State of Florida.
II. EPA's Action
A. What Action Is EPA Proposing Today?
EPA is proposing a conditional approval under section 110(k)(4) of the CAA. EPA may conditionally approve a plan based on a commitment from the State to adopt specific enforceable measures within one year from the effective date of final conditional approval. If the State fails to meet its commitment within the one-year period, the approval is treated as a disapproval. Because the revisions would materially alter the existing SIP approved rule, the State must make a SIP submittal. As with any SIP revision, the State must provide notice and public hearing on the proposed changes.

If the State fails to adopt and submit the specified measures by the end of one year (from the final conditional approval), or fails to make a submittal, EPA will issue a finding of disapproval. If EPA determines that the rule is approvable, EPA will propose approval of the rule in the Federal Register. EPA will conditionally approve a certain rule only once.
B. Why Is EPA Proposing This Action?
EPA is taking this action in response to a request from the Florida Department of Environmental Protection (FDEP) to revise Florida's SIP and Title V operating permit program to include an alternative regulatory program for citrus juice processing facilities. FDEP's complete submittal, received by EPA on July 29, 2002, includes a new citrus statute (Florida Statute 403.08725), which the State adopted in July 2000 and amended on June 12, 2003, as well as draft implementing regulations and supporting material. FDEP formally adopted these implementing regulations in December 2002. 62-210.340 F.A.C. FDEP also requested that the statute and regulation be processed by EPA pursuant to the Joint EPA/State Agreement to Pursue Regulatory Innovation between EPA and the Environmental Council of the States (“ECOS”). 63 FR 24784. After a detailed review, EPA responded to FDEP with letters, dated September 18, 2002, and April 24, 2003, listing several conditions that must be rectified in order for EPA to incorporate the program into the Florida SIP. On January 31, 2003, FDEP made a supplemental submittal outlining their intent to make necessary statutory and regulatory revisions to the program.
C. What Does the Florida Citrus ECOS Proposal Require or Allow?

The program requires the 26 existing juice processing facilities in Florida to comply with specified terms in the statute when they construct, operate, and modify air emissions units. For some units, these conditions are different from those required by the conventional construction and operating permit requirements required by the SIP-approved Florida regulations that currently apply to citrus juice processing facilities. The statute requires a 65% recovery (50% the first year) of d-limonene oil from peel processed through the peel dryer. This reduction will decrease emissions of VOC from these facilities by approximately 38%. The citrus facilities can comply with the VOC emission limitations through a combination of emission controls, pollution prevention, and emission credits that can be generated through over-control of the juice processing facilities. The statute includes requirements for emissions of VOC, nitrogen oxides (NOX), sulfur dioxide (SO2), and particulate matter (PM), for existing units and for new units. New units include units that are modified or are relocated. The program also incorporates all applicable federal standards (such as maximum achievable control technology (MACT) for hazardous air pollutants and New Source Performance Standards (NSPS)). The statute and implementing regulations will be considered a general permit for the purpose of Title V of the Clean Air Act (CAA).
D. When Will This Program Take Effect?
Per the Florida statute, the program will be State effective on October 1, 2004. If the EPA does not approve the program as a revision to Florida's SIP and Title V program by January 31, 2005, the Florida statute will expire, and the applicable requirements will revert back to those of the conventional programs.
E. What Facilities Must Comply With the New Program?

The 26 existing juice processing facilities in Florida are the only facilities to which the new statute and regulations apply. Modifications, consolidation, and new units at existing sites will be covered by the program and must meet the requirements for “new units.” New or “greenfield” processing facilities will not be covered and will be subject to the conventional Florida regulations, as applicable. Likewise, any units not specifically listed in the regulations (i.e. those not directly related to citrus juice processing) are not covered by the program, but remain subject to current SIP approved requirements. In addition, EPA is proposing approval of this program only for use by facilities in attainment areas (those areas meeting the National Ambient Air Quality Standards (NAAQS)). Should an area that contains an existing juice processing facility be designated as nonattainment, such facility would need to comply with the State's SIP approved nonattainment requirements, or a SIP approved version of this rule that has been revised to meet the CAA requirements for an area that has not attained the NAAQS (a “nonattainment” area).
F. What Type of Air Pollution Comes From Citrus Juice Processing Facilities?

The citrus juice facilities produce juice, as well as other by-products associated with juice production, such as animal feed pellets and citrus oils. Some facilities are capable of producing excess electric power for sale. One facility also has a container glass plant to make juice bottles. Emissions from the citrus juice processing plants come primarily from feed mill dryers and coolers, boilers, combustion turbines, and a container glass furnace. Regulated pollutants emitted by the facilities include VOC, NOX, SO2, PM, carbon monoxide (CO) and hazardous air pollutants (HAP) (primarily methanol and formaldehyde).
G. What Are the Benefits of This Proposal?

An analysis conducted by the FDEP concluded that the proposed citrus program will provide greater reductions in VOC, SO2 and PM than can be obtained under the conventional State permitting program. VOC emissions reductions will be greater because all existing facilities that operate peel driers will be subject to emissions limits for VOC and will be required to enhance peel oil recovery or trade with other citrus plants to get VOC emissions credits. SO2 and PM emissions will be reduced because all facilities will be subject to a limit on the sulfur content of fuels used at each facility. In contrast, under the conventional program (New Source Review (NSR)), facilities would not be required to reduce emissions until they actually made a change at the facility that would cause an emissions increase.
H. Is the State's Proposal Consistent With Applicable Laws?
This program is designed to replace the current State regulations that meet the Prevention of Significant Deterioration (PSD) and Title V requirements of the CAA, 40 CFR 51.160-51.163 and 51.166 and 40 CFR part 70 respectively, for existing citrus juice processing facilities. As proposed, the program does not meet all of the requirements of the CAA and applicable federal regulations. Hence, EPA is not taking any final action on the Florida program at this time.
Our proposed approval is conditioned upon FDEP making specific changes to the State statute and regulations, and submitting the approvable changes to EPA. Because these regulatory requirements are different than what is required by Florida's current SIP and Title V program, EPA must approve them as revisions to Florida's SIP and Title V program, so that they become federally enforceable requirements for these facilities. EPA will follow the statutory requirements of the CAA for notice and comment rulemaking when taking these actions.
I. Why Is EPA Proposing This Special Approval for the Florida Citrus Processing Industry?

Florida initiated this innovations project in accordance with the joint EPA/State Agreement to Pursue Regulatory Innovation developed by EPA and ECOS. These projects are experimental in nature and are designed to attempt to bring about environmental benefits through non-traditional regulatory means. EPA is proposing conditional approval of this project because we believe that equivalent or superior environmental performance will be achieved, while the administrative burden on both the State and the regulated community may be decreased. More specifically, we believe, this program, when fully approved, will meet the seven overarching principles of ECOS: (1) Experimentation; (2) environmental performance; (3) smarter approach; (4) stakeholder involvement; (5) measuring and verifying results; (6) accountability; and (7) State/EPA partnership. Further information on the goals and objectives of the ECOS agreement can be found at: http://www.epa.gov/reinvent.
J. How Will This Program Ensure Environmental Performance?
Innovations projects are, by design, experimental. Per the ECOS guidelines, these projects contain performance measures and program review criteria to evaluate their success and environmental impact. For example, the Florida citrus program, if approved, will undergo comprehensive review after three years of implementation and again after six years. If the project does not produce environmental results equivalent to or better than the conventional approach, per the regulations, it will be terminated and facilities will be subject to conventional requirements. The FDEP will also solicit public and stakeholder comment for program improvement.
K. What Happens Next?

After consideration of any comments received on this “proposal,” EPA will publish a notice indicating if this conditional approval is final or withdrawn. If the conditional approval is granted, the FDEP will then have one year from the effective date of the conditional approval to complete and submit to EPA the necessary program revisions. Revisions to the Florida Title V program will be proposed following EPA's receipt of an updated program submittal that includes the necessary changes to meet the requirements of Title V. Hence, this proposed action is only in response to the State's SIP submittal and is not a proposed action on the State's proposed revisions to the Title V program for the citrus facilities. After EPA receives the State's submittal, required by the conditional approval, EPA will review the changes to ensure that they remedy the deficiencies identified in this notice. If EPA believes these changes are approvable, EPA will publish a proposed action to approve the SIP and Title V revisions, again soliciting public comment. If EPA does not approve the program as a revision to Florida's SIP and Title V program by January 31, 2005, the Florida citrus statute will expire.
L. What Specific Changes Must Be Made to the Program?
1. Title I Requirements: The following changes must be made to the citrus program and submitted to EPA in order for the program to meet the requirements of the CAA and implementing regulations at 40 CFR 51.160-51.164 and 51.166:
i. Fuel Sulfur Content: The results of the required modeling analyses submitted with the proposed program indicate violations of the NAAQS and PSD Class II area increments for SO2 under possible industry consolidation scenarios. The Florida statute must require that the sulfur content of the fuel used at the subject facilities not exceed 0.1% at all new and existing units. This level is also required to meet the control technology requirements of the CAA and to ensure the environmental performance of the program. On June 12, 2003, the State adopted changes to the statute to limit the sulfur content of the fuel. These revisions must be submitted to EPA for approval.
ii. Reduced PM-10 Emissions: The results of the required modeling analyses submitted with the proposed program indicate violations of the NAAQS and PSD Class II area increments for particulate matter (PM-10) under possible industry consolidation scenarios. The statute must contain revised PM-10 limits for new process steam boilers, as well as increase in stack height for all new boilers and coolers, to eliminate modeled violations. On June 12, 2003, the State adopted changes to the statute to reduce emissions of PM-10 and associated impacts. These revisions must be submitted to EPA for approval.
iii. Production Cap: The citrus program will apply throughout the juice processing sector in Florida. Existing facilities will be able to make modifications and add new equipment without triggering conventional preconstruction requirements as long as they meet the requirements set out in the program. However, unlike conventional “cap and trade” type programs, the program, as proposed, does not “cap” emissions. The submittal must be revised to provide an industry-wide limit on production to ensure protection of the NAAQS, PSD increments, and Class I areas. On June 12, 2003, the State adopted a statutory change that includes a limit on the amount of fruit processed that is consistent with the “fruit availability” assumptions that were modeled and analyzed in the proposal. The revised statute and implementing regulations must be submitted to EPA for approval.
iv. Regulated and Toxic Pollutants: As submitted, the program does not address all regulated pollutants, as required by Titles I, III and V of the CAA. Specifically, the citrus facilities are known to produce CO, methanol and formaldehyde at levels that may exceed the significance thresholds. On June 12, 2003, the State adopted a statutory change that gave FDEP statutory authority to develop regulations for these pollutants that will be applicable requirements for the subject facilities. The revised statute and implementing regulations must be submitted to EPA for approval.
2. Title V and ECOS Requirements: EPA will formally address changes that are required to meet the requirements of Title V and the ECOS agreement in a separate Federal Register action. We are, however, including a summary of these below in order to provide the State and interested parties with as much notice as possible. As a practical matter, the citrus program represents a “package” of SIP and Title V changes. The following revisions must be made in order for the program to receive approval as part of the Florida Title V program and to meet the requirements of the ECOS agreement:
i. Opportunity for EPA objection and subsequent public petition and judicial review of the general permit: The statute and implementing regulations, as submitted, do not specifically provide an opportunity for EPA objection and subsequent public petition and judicial review as required under the general permit provisions of Title V (CAA 502(b)(5), 502(b)(6) and 504(d)). However, under the State's existing approved Title V program and implementing regulations, consistent with Title V and the implementing federal regulations, these requirements should occur after all the applicable requirements have been identified for the subject facilities. On June 12, 2003, the State adopted a statutory change that provides FDEP with the authority to adopt public participation procedures consistent with the requirements of Title V. EPA must receive the necessary statutory and regulatory changes prior to approving the program as a revision to the State's Title V program.
ii. Performance measures: Pursuant to the ECOS agreement, performance measures must be developed to measure and verify results and ensure the environmental accountability of the program. Per the January 31, 2003 letter that EPA received from Howard Rhodes, FDEP indicated that the State believes that the appropriate performance measures are those that compare the overall industry-wide results from the alternative program with those that would have occurred under the conventional NSR program. The State also indicated that FDEP intends to review the program's performance in aggregate to determine if the program is successful. The State must submit the adopted performance criteria to EPA for review and approval.
iii. Program Review and Termination: Due to the experimental nature of the program, the regulations must require program review and evaluation on an established schedule. On June 12, 2003, the State adopted a statutory change to require an analysis within three years of program implementation to determine whether the program should continue or be terminated and revert to conventional NSR. In the event the program continues, a second analysis will be conducted within six years of program implementation. Each review must be of the same nature and scope as that submitted in the original proposal and must include, among other things, a specific consideration of the environmental impact of industry consolidation and modification, as well as applicable new or improved technologies for new or modified facilities. The final report must be provided to the State legislature, to EPA, and to the public. In addition, as currently specified in the program, at five year intervals from the program's initiation, Florida must solicit public comment on the program's effectiveness.

The statute must also include a termination clause and mitigation in the event of program failure. FDEP has indicated that they intend to submit requirements that would require mitigation through recovery of emissions reductions that would have otherwise occurred under conventional NSR. These reductions would not necessarily be required at the specific facility that would have otherwise had to have them. However, such reductions would be enforceable as a practical matter. The State has also indicated that FDEP will be able, through its tracking system, to identify facilities that would otherwise be subject to the conventional programs so that this calculation can be made. On June 12, 2003, the State adopted statutory changes that include the above requirements. The revised statute and implementing regulations must be submitted to EPA for approval.
III. Proposed Action
EPA is proposing to approve the Florida SIP revision, consisting of an innovative strategy to create a alternative program for regulating the existing citrus juice industry, which was submitted on January 30, 2001, with additional material submitted on July 16, 2002, and January 31, 2003, with the condition that Florida correct the deficiencies described in this notice. EPA is taking this action pursuant to our authority in section 110(k)4 of the CAA.
IV. General Information
A. How Can I Get Copies of This Document and Other Related Information?

1. The Regional Office has established an official public rulemaking file available for inspection at the Regional Office. EPA has established an official public rulemaking file for this action under Docket Control No. FL-87. The official public file consists of the documents specifically referenced in this action, any public comments received, and other information related to this action. Although a part of the official docket, the public rulemaking file does not include Confidential Business Information (CBI) or other information whose disclosure is restricted by statute. The official public rulemaking file is the collection of materials that is available for public viewing at the, Air Planning Branch, Air, Pesticides and Toxics Management Division, U.S. Environmental Protection Agency, Region 4, 61 Forsyth Street, SW, Atlanta, Georgia 30303-8960. EPA requests that if at all possible, you contact the person listed in the FOR FURTHER INFORMATION CONTACT section to schedule your inspection. The Regional Office's official hours of business are Monday through Friday, 9 to 3:30, excluding federal holidays.
2. Copies of the State submittal and EPA's technical support document are also available for public inspection during normal business hours, by appointment at the State Air Agency: Florida Department of Environmental Protection, Division of Air Resources Management, 2600 Blair Stone Road, Tallahassee, Florida 32399-2400.
3. Electronic Access. You may access this Federal Register document electronically through the Regulation.gov Web site located at http://www.regulations.gov where you can find, review, and submit comments on Federal rules that have been published in the Federal Register, the Government's legal newspaper, and are open for comment.
For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.
B. How and To Whom Do I Submit Comments?
You may submit comments electronically, by mail, or through hand delivery/courier. To ensure proper receipt by EPA, identify the appropriate rulemaking identification number by including the text, “Public comment on proposed rulemaking Docket Control No. FL-87,” in the subject line on the first page of your comment. Please ensure that your comments are submitted within the specified comment period. Comments received after the close of the comment period will be marked “late.” EPA is not required to consider these late comments.
1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.
i. E-mail. Comments may be sent by electronic mail (e-mail) to Fortin.Kelly@epa.gov. Please include the text, “Public comment on proposed rulemaking Docket Control No. FL-87,” in the subject line. EPA's e-mail system is not an “anonymous access” system. If you send an e-mail comment directly without going through Regulations.gov, EPA's e-mail system automatically captures your e-mail address. E-mail addresses that are automatically captured by EPA's e-mail system are included as part of the comment that is placed in the official public docket.
ii. Regulation.gov. Your use of Regulation.gov is an alternative method of submitting electronic comments to EPA. Go directly to Regulations.gov at http://www.regulations.gov, then select Environmental Protection Agency at the top of the page and use the go button. The list of current EPA actions available for comment will be listed. Please follow the online instructions for submitting comments. The system is an “anonymous access” system, which means EPA will not know your identity, e-mail address, or other contact information unless you provide it in the body of your comment.
iii. Disk or CD ROM. You may submit comments on a disk or CD ROM that you mail to the mailing address identified in section 2, directly below. These electronic submissions will be accepted in WordPerfect, Word or ASCII file format. Avoid the use of special characters and any form of encryption.
2. By Mail. Send your comments to: Kelly Fortin, Air Permits Section, Air Planning Branch, Air, Pesticides and Toxics Management Division, U.S. Environmental Protection Agency, Region 4, 61 Forsyth Street, SW, Atlanta, Georgia 30303-8960. Please include the text, “Public comment on proposed rulemaking Docket Control No. FL-87,” in the subject line on the first page of your comment.
3. By Hand Delivery or Courier. Deliver your comments to: Kelly Fortin, Air Permits Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 9 to 3:30, excluding Federal holidays.
C. How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.
D. What Should I Consider as I Prepare My Comments for EPA?
You may find the following suggestions helpful for preparing your comments:
1. Explain your views as clearly as possible.
2. Describe any assumptions that you used.
3. Provide any technical information and/or data you used that support your views.
4. If you estimate potential burden or costs, explain how you arrived at your estimate.
5. Provide specific examples to illustrate your concerns.
6. Offer alternatives.
7. Make sure to submit your comments by the comment period deadline identified.

8. To ensure proper receipt by EPA, identify the appropriate regional file/rulemaking identification number in the subject line on the first page of your response. It would also be helpful if you provided the name, date, and Federal Register citation related to your comments.
V. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).
This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999). This action merely proposes to approve a state rule implementing a Federal standard, and does not alter the relationship or the distribution of power and responsibilities established in the CAA. This proposed rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52
Environmental protection, Air pollution control, Intergovernmental relations, Nitrogen dioxide, Ozone, Particulate matter, Reporting and recordkeeping requirements, Volatile organic compounds.

Authority:
42 U.S.C. 7401 et seq.

Dated: January 21, 2004.
A. Stanley Meiburg,
Acting Regional Administrator, Region 4.

[FR Doc. 04-1977 Filed 1-29-04; 8:45 am]
BILLING CODE 6560-50-P